ENVIRONMENTAL PROTECTION AGENCY

[EPA-HQ-SFUND-2007-0469; FRL-9971-65-OLEM]

Information Collection Request Submitted to OMB for Review and Approval; Comment Request; Continuous Release Reporting Requirements; Reporting Air Releases of Hazardous Substances From Animal Wastes at Farms Under CERCLA Section 103

AGENCY: Environmental Protection Agency (EPA).

ACTION: Notice.

SUMMARY: The Environmental Protection Agency has submitted an information collection request (ICR), “Continuous Release Reporting Requirements; Reporting Air Releases of Hazardous Substances From Animal Wastes at Farms Under CERCLA Section 103” (EPA ICR No. 1445.13, OMB Control No. 2050-0086) to the Office of Management and Budget (OMB) for review and approval in accordance with the Paperwork Reduction Act (44 U.S.C. 3501 et seq.). This is a request for approval of a collection for a sector (farms) that were not included in the ICR currently approved by OMB (Control No. 2050-0086) (EPA ICR No. 1445.12). A fuller description of the ICR is given below, including its estimated burden and cost to the public. An Agency may not conduct or sponsor and a person is not required to respond to a collection of information unless it displays a currently valid OMB control number.

DATES: Comments may be submitted on or before December 15, 2017.

ADDRESSES: Submit your comments, referencing Docket ID Number EPA-HQ-SFUND-2007-0469, to (1) EPA online using www.regulations.gov (our preferred method), by email to superfund.docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, 5104A, Environmental Protection Agency, 1200 Pennsylvania Ave. NW., Washington, DC 20460; telephone number: (202) 564-8019; email address: jacob.sicy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This information collection request (ICR) addresses the reporting and recordkeeping activities required for farms to comply with EPA's Continuous Release Reporting Regulation (CRRR; 40 CFR 302.8) implementing Section 103(f)(2) of CERCLA. The CRRR clarifies the types of releases that qualify for reporting under CERCLA Section 103(f)(2) and establishes the reporting requirements applicable to qualifying releases. This ICR estimates the burden and cost impacts on farms reporting air releases of hazardous substances from animal wastes at farms under CERCLA Section 103(f).

• Statutory Background

CERCLA Section 103(a) requires persons in charge of a facility or vessel to immediately notify the National Response Center (NRC) of any hazardous substance release that equals or exceeds its reportable quantity (RQ) and is not federally permitted. EPA regulations implementing CERCLA Section 103 is codified in 40 CFR part 302. The information collection for episodic releases (immediate release notification) is covered under OMB Control Number 2050-0046. Section 103(f)(2) of CERCLA provides relief from the per-occurrence notification requirements of Section 103(a) for hazardous substance releases that are “continuous,” and “stable in quantity and rate,” provided that such releases are reported “annually, or at such time as there is any statistically significant increase” in the quantity of the release. Section 103(f)(2) contemplates that, in the case of certain “continuous” and “stable” releases, the notification objectives of CERCLA can be achieved with less frequent reporting.

• Background for this ICR

On December 18, 2008, EPA published a final rule, “CERCLA/EPCRA Administrative Reporting Exemption for Air Releases of Hazardous Substances From Animal Waste at Farms,” that exempted farms releasing hazardous substances from animal waste to the air at or above threshold levels from reporting under CERCLA Section 103. The final rule also exempted reporting of such releases under EPCRA section 304 if the farm had fewer animals than a large concentrated animal feeding operation (CAFO).

On April 11, 2017, the D.C. Circuit Court vacated this final rule, thus eliminating the exemptions. Therefore, farms that were previously not subject to reporting requirements for air releases of hazardous substances from animal wastes are now required to report. This means that farms are now subject to CERCLA Section 103 reporting requirements for air releases of hazardous substances from animal waste at the farms. In this ICR, EPA assumes that farms may utilize the streamlined reporting option, Continuous Release Reporting, to report air releases of hazardous substances from animal wastes. This ICR (1445.13) amends the current approved ICR (1445.12, OMB Control No. 2050-0086) to add farms sector and their burden and costs associated with continuous release reporting requirements.

Form Number: 6200-15.

Respondents/affected entities: 44,900 farms.

Respondent's obligation to respond: Mandatory under CERCLA Section 103.

Estimated number of respondents: 44,900 (total).

Frequency of response: Farms may utilize the streamlined reporting option, continuous release reporting, of hazardous substances above their reportable quantities from animal wastes rather than providing immediate notification on a per-occurrence basis.

Total estimated burden: 496,893 hours (per year). Burden is defined at 5 CFR 1320.03(b).

Total estimated cost: $14,958,973 (per year), includes $455,061 annualized capital or operation & maintenance costs.

Changes in the Estimates: There is an increase of 496,893 hours per year in the total estimated respondent burden compared with the ICR currently approved by OMB (EPA ICR No. 1445.12). This increase is due to the vacatur of the December 18, 2008 Final Rule which exempted farms from reporting air releases of hazardous substances from animal wastes at farms. All farms are now subject to CERCLA reporting for air releases of hazardous substances from animal wastes that are equal to or greater than their reportable quantities (RQs) within any 24-hour period.

Dated: November 29, 2017.
Reggie Cheatham,
Director, Office of Emergency Management.

[FR Doc. 2017-26185 Filed 12-4-17; 8:45 am]

BILLING CODE 6560-50-P